DEPARTMENT OF JUSTICE

Notice of Lodging of Proposed Consent Decree Under the Comprehensive Environmental Response, Compensation, and Liability Act

On March 7, 2016, the Department of Justice lodged a proposed consent decree with the United States District Court for the District of South Carolina in the lawsuit entitled United States v. Vigindustries Inc., Civil Action No. 7:16-cv-00721-MGL.

The United States, on behalf of the U.S. Environmental Protection Agency (“EPA), filed this lawsuit under the Comprehensive Environmental Response, Compensation and Liability Act (CERCLA). The complaint seeks performance of response actions to address the International Mineral and Chemical Corporation Fertilizer Superfund Site in Spartanburg, South Carolina, recovery of costs that the United States incurred responding to releases of hazardous substances at the site, and recovery of costs that the United States will incur overseeing implementation of the remedy at the site. The proposed consent decree requires Vigindustries, Inc. to perform the remedial action that EPA selected for the site, pay $116,635.85 in unreimbursed response costs, and pay response costs to be incurred by EPA at the site.

The publication of this notice opens a period for public comment on the consent decree. Comments should be addressed to the Assistant Attorney General, Environment and Natural Resources Division, and should refer to United States v. Vigindustries Inc., D.J. Ref. No. 90-11-3-11251. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611

During the public comment period, the consent decree may be examined and downloaded at this Justice Department Web site: https://www.justice.gov/enrd/consent-decrees. We will provide a paper copy of the consent decree upon written request and payment of reproduction costs. Please mail your request and payment to:

Consent Decree Library,

U.S. DOJ—ENRD,

P.O. Box 7611,

Washington, DC 20044-7611.

Please enclose a check or money order for $63.75 (25 cents per page reproduction cost) payable to the United States Treasury. For a paper copy without the exhibits and signature pages, the cost is $9.75.

Henry S. Friedman,
Assistant Section Chief, Environmental Enforcement Section, Environment and Natural Resources Division.

[FR Doc. 2016-05765 Filed 3-14-16; 8:45 am]

BILLING CODE 4410-15-P